DEPARTMENT OF TRANSPORTATION

Federal Aviation Administration

[Docket No. FAA-2019-0103]

Agency Information Collection Activities: Requests for Comments; Clearance of a Renewed Approval of Information Collection: Airport Grants Program

AGENCY: Federal Aviation Administration (FAA), DOT.

ACTION: Notice and request for comments.

SUMMARY: In accordance with the Paperwork Reduction Act of 1995, FAA invites public comments about our intention to request the Office of Management and Budget (OMB) approval to renew an information collection. The collection involves data from airport sponsors and planning agencies to determine eligibility, and to ensure proper use of Federal funds and project accomplishments for the Airport Improvement Program.

DATES: Written comments should be submitted by May 10, 2019.

ADDRESSES: Please send written comments:

By Electronic Docket: www.regulations.gov (Enter docket number into search field).

By mail: Robin Hunt, Acting Director, Office of Airport Planning and Programming, APP-1 Federal Aviation Administration, 800 Independence Ave. SW, Suite 620, Washington, DC 20591.

By fax: 202-267-5302.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Patricia Dickerson by email at: patricia.a.dickerson@faa.gov; phone: 202-267-9297.

SUPPLEMENTARY INFORMATION: OMB Control Number: 2120-0569.

Title: Airport Grants Program.

Form Numbers: FAA Forms 5100-100, 5100-101, 5100-108, 5100-110, 5100-126, 5100-127, 5100-128, 5100-129, 5100-130, 5100-131, 5100-132, 5100-133, 5100-134, 5100-135, 5100-136, 5100-137, 5100-138, 5100-139, 5100-140, 5100-141, 5100-142, 5370-1.

Type of Review: Renewal of an information collection.

Background: Codification of certain U.S. Transportation laws at 49 U.S.C., repealed the Airport and Airway Improvement Act of 1982, as amended, and the Aviation Safety and Noise Abatement Act of 1979, as amended, and re-codified them without substantive change at Title 49 U.S.C., which is referred to as the “Act.” The Act provides funding for airport planning and development projects at airports included in the National Plan of Integrated Airport Systems. The Act also authorizes funds for noise compatibility planning and to carry out noise compatibility programs. The information required by this program is necessary to protect the Federal interest in safety, efficiency, and utility of the Airport. Data is collected to meet report requirements of 2 CFR part 200 for certifications and representations, financial management and performance measurement.

Respondents: Approximately 13,000 applications.

Frequency: Information is collected on occasion.

Estimated Average Burden per Response: Approximately 9 hours.

Estimated Total Annual Burden: Approximately 118,000 hours.

Issued in Washington, DC, on March 6, 2019.
Lori K. Pagnanelli,
Acting Manager, Airports Financial Assistance Division, APP-500.

[FR Doc. 2019-04300 Filed 3-8-19; 8:45 am]

BILLING CODE 4910-13-P